DEPARTMENT OF LABOR

Office of the Secretary

Agency Information Collection Activities; Submission for OMB Review; Comment Request; National Emergency Grant Assistance—Application and Reporting Procedures

ACTION: Notice.

SUMMARY: On July 31, 2013, the Department of Labor (DOL) will submit the Employment and Training Administration (ETA) sponsored information collection request (ICR) revision titled, “National Emergency Grant Assistance—Application and Reporting Procedures,” to the Office of Management and Budget (OMB) for review and approval for use in accordance with the Paperwork Reduction Act (PRA) of 1995 (44 U.S.C. 3501 et seq.).

DATES: Submit comments on or before August 30, 2013.

ADDRESSES: A copy of this ICR with applicable supporting documentation; including a description of the likely respondents, proposed frequency of response, and estimated total burden may be obtained free of charge from the RegInfo.gov Web site at http://www.reginfo.gov/public/do/PRAViewICR?ref_nbr=201305-1205-004 (this link will only become active on August 1, 2013) or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street NW., Washington, DC 20503, Fax: 202-395-6881 (this is not a toll-free number), email: OIRA_submission@omb.eop.gov.

FOR FURTHER INFORMATION: Contact Michel Smyth by telephone at 202-693-4129 (this is not a toll-free number) or by email at DOL_PRA_PUBLIC@dol.gov.

Authority: 44 U.S.C. 3507(a)(1)(D).

SUPPLEMENTARY INFORMATION: This ICR contains policies and application and reporting procedures for State and local entities, to enable them to access funds for National Emergency Grant (NEG) programs. A NEG is a discretionary grant intended to complement the resources and service capacity at the State and local area levels, by providing supplemental funding for workforce development and employment services and other adjustment assistance for dislocated workers and other eligible individuals as defined in Workforce Investment Act sections 101, 134, and 173 and in the Trade Act, as amended by the Trade and Globalization Assistance Act of 2009.

This ICR has been classified as a revision, because a number of changes are being proposed. Specifically, the previous submission inadvertently included a Trade Adjustment Assistance Certification Report. The report is not a form generated by the NEG program. In addition, changes are being proposed for several forms covered by the ICR. For additional substantive information about this ICR, see the related notice published in the Federal Register on May 29, 2013 (78 FR 32277).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0439. The current approval is scheduled to expire on July 31, 2013; however, it should be noted that existing information collection requirements submitted to the OMB receive a month-to-month extension while they undergo review. New requirements would only take effect upon OMB approval.

Interested parties are encouraged to send comments to the OMB, Office of Information and Regulatory Affairs at the address shown in the ADDRESSES section on or before August 30, 2013. In order to help ensure appropriate consideration, comments should mention OMB Control Number 1205-0439. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: National Emergency Grant Assistance—Application and Reporting Procedures.

OMB Control Number: 1205-0439.

Affected Public: State, Local, and Tribal Governments.

Total Estimated Number of Respondents: 150.

Total Estimated Number of Responses: 1,485.

Total Estimated Annual Burden Hours: 1,006.

Total Estimated Annual Other Costs Burden: $0.

Dated: July 23, 2013.
Michel Smyth,
Departmental Clearance Officer.

[FR Doc. 2013-18112 Filed 7-26-13; 8:45 am]

BILLING CODE 4510-FN-P